DEPARTMENT OF AGRICULTURE

National Institute of Food and Agriculture

Solicitation of Input From Stakeholders Regarding Commodity Boards To Propose Projects and Contribute Funding Under the Agricultural and Food Research Initiative Competitive Grant Programs, Implementation

AGENCY: National Institute of Food and Agriculture, USDA.

ACTION: Notice of Web-based listening session and request for stakeholder input.

SUMMARY: As part of the National Institute of Food and Agriculture's (NIFA) strategy to successfully implement Section 7404 of Public Law 113-79, the Agricultural Act of 2014, NIFA is soliciting stakeholder input on how it will establish procedures, including timelines, under which an entity established under a commodity promotion law (as such term is defined under section 7401(a) of the Agricultural Act of 2014) or a State commodity board (or other equivalent State entity) may submit proposals for Requests for Applications (RFA)to be competed as part of the Agricultural and Food Research Initiative (AFRI) competitive grant programs. If proposals are accepted for funding, the proposed RFA will be competed as part of the AFRI competitive grants program RFAs and entities eligible for AFRI awards will be able to compete for award. In addition, as a condition of funding the grant proposed by a commodity board, NIFA shall require a contribution of funds equal to the amount of the grant.

NIFA will be holding Web-based listening sessions in order to solicit stakeholder input on this new challenge area. The focus of the Web-based listening sessions will be to gather stakeholder input that will be used in developing a process for soliciting, evaluating, and prioritizing AFRI Request for Applications (RFA) submissions from the previously stated commodity board entities or their equivalent.

All comments must be received by close of business on October 16, 2014, to be considered in the initial planning of the FY 2015 cycle.

DATES: The Web-based listening sessions will be held on Thursday, October 9, 2014, from 10:00 a.m. to 12:00 p.m., Eastern Standard Time (ET), and Thursday, October 16, 2014, from 1:00 p.m. to 3:00 p.m., ET. All written comments must be received by 5:00 p.m., ET on Thursday, October 16, 2014.

ADDRESSES: The Web-based listening sessions will be hosted using Adobe Connect. On October 9th and October 16th, please access the following Web site, http://nifa-connect.nifa.usda.gov/cbsls/. In addition, audio conference call capabilities can be accessed at 1-888-844-9904, participant code 4896371#.

You may submit comments, identified by NIFA-2014-004, by any of the following methods:

Federal eRulemaking Portal: http://www.regulations.gov. Follow the instructions for submitting comments.

Email: vbest@nifa.usda.gov. Include NIFA-2014-004 in the subject line of the message.

Fax: 202-690-0289.

Mail: Paper, disk or CD-ROM submissions should be submitted to Commodity Boards; Office of the Administrator, National Institute of Food and Agriculture, U.S. Department of Agriculture, STOP 2201, 1400 Independence Avenue SW., Washington, DC 20250-2201.

Hand Delivery/Courier: Centers of Excellence—Office of the Administrator, National Institute of Food and Agriculture, U.S. Department of Agriculture, Room 4248, Waterfront Centre, 800 9th Street SW., Washington, DC 20024.

Instructions: All submissions received must include the agency name and reference to NIFA-2014-004. All comments received will be posted to http://www.regulations.gov, including any personal information provided.

FOR FURTHER INFORMATION CONTACT: Ms. Valeria Best, (202) 720-8540 (phone), (202) 690-1260 (fax), or vbest@nifa.usda.gov.

SUPPLEMENTARY INFORMATION:

Comment Procedures

Persons wishing to present oral comments during the Web-based listening session on either Thursday, October 9 or Thursday, October 16, 2014 are requested to pre-register by contacting Ms. Valeria Best at (202) 720-8540, by fax at (202) 690-1260 or by email to vbest@nifa.usda.gov. Participants may reserve one 5-minute comment period. More time may be available, depending on the number of people wishing to make a presentation. Reservations will be confirmed on a first-come, first-served basis. All other participants may provide comments during the Web-based listening session if time permits, or submit written comments. All written comments must be received by close of business October 16, 2014, to be considered. All comments and the official transcript of the Web-based listening session, when they become available, may be reviewed on the NIFA Web page, http://www.nifa.usda.gov, for six months.

Background and Purpose

NIFA is moving forward to implement Section 7404 of the Agricultural Act of 2014. Beginning in October of 2014, this section requires that the NIFA “establish procedures, including timelines, under which an entity established under a commodity promotion law (as such term is defined under section 501(a) of the Federal Agriculture Improvement and Reform Act of 1996 (7 U.S.C. 7401(a))) or a State commodity board (or other equivalent State entity) may directly submit to the Secretary for consideration proposals for requests for applications” as part of the AFRI competitive grants program.

These proposals for RFAs must address particular issues related to the AFRI priority areas. A program synopsis of the AFRI programs, including program priorities, can be viewed at the following URL: http://www.nifa.usda.gov/funding/afri/afri_synopsis.html.

Language in 7 U.S.C. 7401(a) defines an entity established under a commodity promotion law as a program regarding an agricultural commodity that includes a combination of promotion, research, industry information, or consumer information activities, is funded by mandatory assessments on producers or processors, and is designed to maintain or expand markets and uses for the commodity (as determined by the Secretary). As of this writing, the USDA Agricultural Marketing Service has informed NIFA that 22 organizations are federally recognized that meet the definition of this organization: Hass Avocado Board, Mushroom Council, Beef Board, Paper and Paper-Based Packaging, Blueberry Council, Peanut Board, Christmas Tree Board, Popcorn Board, Cotton Board, Pork Board, Dairy Board, Potato Board, Egg Board, Processed Raspberry Council, Fluid Milk Board, Softwood Lumber Board, Honey Board, Sorghum Board, Lamb Board, Soybean Board, Mango Board, Watermelon Board. However, the agency is interested in stakeholder views regarding the best methods of identification and outreach to “other equivalent State” entities that are established under state commodity promotion laws, include a combination of promotion, research, industry information, or consumer information activities, are funded by state-mandated assessments on producers or processors, and are designed to maintain or expand markets and uses for the commodity.

It is important to note that grants funded under this authority will require the commodity boards who submitted proposals for AFRI RFAs to match the awarded AFRI grants with an equal contribution of funds.

As the Agricultural Act of 2014 provides a fairly broad authority for NIFA to solicit and evaluate proposals for RFAs that address particular areas of interest to commodity boards, it will be important that NIFA hear from the community about how NIFA should do the following: Attempt to guide the priority development of AFRI RFAs that the commodity boards or their equivalent may submit; develop evaluation criteria for selecting RFAs submitted by commodity boards; incorporate selected RFAs into the larger framework of the AFRI program; set upper and lower limits on commodity board proposals; and determine the appropriate mix of RFAs selected from proposals submitted by national and state commodity boards.

NIFA is considering using a process where the agency would issue a request for applications from commodity boards or their equivalent entities that is carefully timed to fit into the existing AFRI RFA development and application review process. The proposals for RFAs would be subject to internal NIFA review and evaluation prior to selection. Successful commodity board or their equivalent entity RFAs would be released as part of the standard AFRI RFAs. Applications submitted in response to commodity board RFAs would be reviewed alongside the other applications within the same AFRI program area through the current competitive peer review process.

During the commodity board mechanism's initial year, NIFA may conduct a pilot program that would limit RFA proposals to program areas within the AFRI Foundational program. This limitation would not itself limit either the number of RFAs approved, or the number of awards ultimately granted, as a result of this new authority in the pilot year. More than one award could conceivably be issued per Commodity Board RFA. However, it is important to note that AFRI Foundational awards are typically limited to $500,000 each. Furthermore, NIFA may institute additional restrictions in the pilot year.

Implementation Plans

NIFA plans to consider stakeholder input received from the Web-based listening sessions as well as other written comments in developing a process to implement the Commodity Board provision in FY 2015.

Done at Washington, DC this 24th day of September, 2014.
Sonny Ramaswamy,
Director, National Institute of Food and Agriculture.

[FR Doc. 2014-23352 Filed 9-29-14; 8:45 am]

BILLING CODE 3410-22-P